DEPARTMENT OF DEFENSE

Office of the Secretary

32 CFR Part 313

[Docket ID: DOD-2019-OS-0109]

RIN 0790-AK59

The Chairman of the Joint Chiefs of Staff and the Joint Staff Privacy Program

AGENCY: The Chairman of the Joint Chiefs of Staff and the Joint Staff, Department of Defense (DoD).

ACTION: Final rule.

SUMMARY: This final rule removes DoD's regulation concerning the Chairman of the Joint Chiefs of Staff and the Joint Staff Privacy Program. On April 11, 2019, the Department of Defense published a revised DoD-level Privacy Program rule, which contains the necessary information for an agency-wide privacy program regulation under the Privacy Act and now serves as the single Privacy Program rule for the Department. That revised Privacy Program rule also includes all DoD component exemption rules. Therefore, this part is now unnecessary and may be removed from the CFR.

DATES: This rule is effective on February 11, 2022.

FOR FURTHER INFORMATION CONTACT: Kyle Roseman, 703-695-7071.

SUPPLEMENTARY INFORMATION: DoD now has a single DoD-level Privacy Program rule at 32 CFR part 310 (84 FR 14728) that contains all the codified information required for the Department. The Chairman of the Joint Chiefs of Staff and the Joint Staff Program regulation at 32 CFR part 313, last updated on November 14, 1991 (56 FR 57802), is no longer required and can be removed.

It has been determined that publication of this CFR part removal for public comment is impracticable, unnecessary, and contrary to public interest since it is based on the removal of policies and procedures that are either now reflected in another CFR part, 32 CFR part 310, or are publicly available on the Department's website. The Office of the Joint Chiefs of Staff is governed by the Privacy Act implementation policies of the Office of the Secretary of Defense.

This rule is one of 20 separate component Privacy rules. With the finalization of the DoD-level Privacy rule at 32 CFR part 310, the Department eliminated the need for this component Privacy rule, thereby reducing costs to the public as explained in the preamble of the DoD-level Privacy rule published on April 11, 2019 at 84 FR 14728-14811.

This rule is not significant under Executive Order 12866, “Regulatory Planning and Review.”

List of Subjects in 32 CFR Part 313

Privacy.

PART 313—[REMOVED]

Accordingly, by the authority of 5 U.S.C. 301, 32 CFR part 313 is removed.

Dated: February 8, 2022.
Aaron T. Siegel,
Alternate OSD Federal Register Liaison Officer, Department of Defense.

[FR Doc. 2022-02940 Filed 2-10-22; 8:45 am]

BILLING CODE 5001-06-P